DEPARTMENT OF JUSTICE

Antitrust Division

Notice Pursuant to the National Cooperative Research and Production Act of 1993—Biotechnology Research and Development Corporation (“BRDC”)

Notice is hereby given that, on June 30, 2008, pursuant to section 6(a) of the National Cooperative Research and Production Act of 1993, 15 U.S.C. 4301 et seq. (the “Act”), Biotechnology Research and Development Corporation (“BRDC”) has filed written notifications simultaneously with the Attorney General and the Federal Trade Commission disclosing changes in its membership. The notifications were filed for the purpose of extending the Act's provisions limiting the recovery of antitrust plaintiffs to actual damages under specified circumstances. Specifically, Global Protein Products, Inc., Winslow, ME has been added as a party to this venture.

No other changes have been made in either the membership or planned activity of the group research project. Membership in this group research project remains open, and BRDC intends to file additional written notification disclosing all changes in membership.

On April 13, 1988, BRDC filed its original notification pursuant to section 6(a) of the Act. The Department of Justice published a notice in the Federal Register pursuant to section 6(b) of the Act on May 12, 1988 (53 FR 16919).

The last notification was filed with the Department on September 23, 2003. A notice was published in the Federal Register pursuant to section 6(b) of the Act on October 14, 2003 (68 FR 59197).

Patricia Brink,
Deputy Director of Operations, Antitrust Division.

[FR Doc. E8-18184 Filed 8-7-08; 8:45 am]

BILLING CODE 4410-11-M